DEPARTMENT OF HEALTH AND HUMAN SERVICES

Administration for Children and Families

Proposed Information Collection Activity; Comment Request

Proposed Projects:

Title: DHHS/ACF/ASPE/DOL Enhanced Services for the Hard-to-Employ Demonstration and Evaluation: Rhode Island 36-Month Data Collection.

OMB No. New Collection.

Description: The Enhanced Services for the Hard-to-Employ Demonstration and Evaluation Project (HtE) seeks to learn what services improve the employment prospects of low-income persons who face serious obstacles to steady work. The project is sponsored by the Office of Planning, Research and Evaluation (OPRE) within the Administration for Children and Families (ACF) and the Office of the Assistant Secretary for Planning and Evaluation (ASPE), both within the U.S. Department of Health and Human Services (HHS), and the U.S. Department of Labor (DOL).

The HtE project is a multi-year, multi-site evaluation that employs and experimental longitudinal research design to test four strategies aimed at promoting employment among hard-to-employ populations. The four include: (1) Intensive care management and job services program for Rhode Island Medicaid recipients with serious depression; (2) job readiness training, worksite placements, job coaching, job development and other training opportunities for recent parolees in New York City; (3) pre-employment services and transitional employment for long-term participants receiving Temporary Assistance for Needy Families (TANF); and (4) two-generational Early Head Start (EHS) services providing enhanced self-sufficiency services for parents, parent skills training, and high-quality child care for children in low-income families in Kansas and Missouri.

The purpose of this document is to request public comment on the proposed 36-month participant survey in Rhode Island for participating parents and their children.

The follow-up survey and direct child assessments at the 36-month follow-up in Rhode Island will be used for the following purposes: Detecting the long-term effects of a telephonic care management intervention on parents' depression and general health, as well as their employment, income, and earnings; detecting effects of a telephonic care management intervention for parents' depression on parents' parenting and on children's health, behavior, and development over time, and determining the extent to which long-term intervention effects on children's development can be attributed to changes in their parents' depressive symptomatology that result from the intervention.

Respondents: The respondents to these follow-up surveys will be low-income parents from the Rhode Island site currently participating in the HtE Project, and some of their children.

Annual Burden Estimates
Instrument | Number of respondents | Number of responses per respondent | Average burden hours per response | Total burden hours
RI 36-month, parent survey | 400 | 1 | .75 | 300.00
RI 36-month, youth survey | 298 | 1 | .75 | 223.50
RI 36-month, direct child assessment | 164 | 1 | .75 | 123.00

Estimated Total Annual Burden Hours: 646.50.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: June 13, 2007.
Brendan Kelly,
OPRE Reports Clearance Officer.

[FR Doc. 07-2997 Filed 6-18-07; 8:45 am]

BILLING CODE 4184-07-M